DEPARTMENT OF STATE

[Public Notice: 10322]

60-Day Notice of Proposed Information Collection: Maintenance of Records by DDTC Registrants

ACTION: Notice of request for public comment.

SUMMARY: The Department of State is seeking Office of Management and Budget (OMB) approval for the information collection described below. We are requesting comments on this collection from all interested individuals and organizations in accordance with the Paperwork Reduction Act of 1995. The purpose of this notice is to allow 60 days for public comment preceding submission of this collection to OMB.

DATES: The Department will accept comments from the public up to April 30, 2018.

ADDRESSES: You may submit comments by any of the following methods:

• Web: Persons with access to the internet may comment on this notice by going to www.Regulations.gov. You can search for the document by entering the docket number, DOS-2018-0009, in the search field. Then, select “Comment Now” to complete the comment form.

• Email: The public email comments to DDTCPublicComments@state.gov. Include “ATTN: OMB Approval, Maintenance of Records by Registrants” in the subject of the email.

• Mail: The public may mail comments to the Directorate of Defense Trade Controls, Department of State, 2401 E St. NW, Suite H1205, Washington, DC 20522.

You must include the information collection title (Maintenance of Records by Registrants) and the OMB control number (1405-0111) in all correspondence.

FOR FURTHER INFORMATION CONTACT: Direct requests for additional information regarding the collection listed in this notice, including requests for copies of the proposed collection instrument and supporting documents, to Andrea Battista, who may be reached at BattistaAL@state.gov or (202) 663-3136.

SUPPLEMENTARY INFORMATION:

• Title of Information Collection: Maintenance of Records by Registrants.

• OMB Control Number: 1405-0111.

• Type of Request: Extension of a currently approved collection.

• Originating Office: Directorate of Defense Trade Controls (PM/DDTC).

• Form Number: No form.

• Respondents: Persons registered with DDTC who conduct business regulated by the International Traffic in Arms Regulations (ITAR, 22 CFR parts 120-130).

• Estimated Number of Respondents: 9,100.

• Estimated Number of Responses: 9,100.

• Average Time Per Response: 20 hours.

• Total Estimated Burden Time: 182,000 hours.

• Frequency: Annually.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

The ITAR requires that persons registered with DDTC maintain records pertaining to defense trade-related transactions. This information collection approves the record-keeping requirements imposed on registrants by the ITAR. Respondents to this collection may submit their records to DDTC as supporting documentation for disclosures of potential violations of the AECA. The method by which respondents submit these records is approved under OMB Control No. 1405-0179. DDTC uses these records to analyze registrant compliance processes and procedures, and to help assess whether potential AECA or ITAR violations merit administrative sanctions or referral to the Department of Justice for possible criminal prosecution.

Methodology

Respondents may maintain records in any format consistent with the provisions in ITAR § 122.5.

Dated: February 20, 2018.
Anthony M. Dearth,
Managing Director (Acting), Directorate of Defense Trade Controls, Department of State.

[FR Doc. 2018-03919 Filed 2-26-18; 8:45 am]

BILLING CODE 4710-25-P